DEPARTMENT OF HOUSING AND URBAN DEVELOPMENT

[Docket No. FR-5168-D-05]

Revocation and Redelegation of Authority for the Civil Rights Related Program Requirements of HUD Programs

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO regarding civil rights related program requirements of HUD programs to FHEO staff and retains and redelegates this authority, with noted exceptions, to the General Deputy Assistant Secretary of FHEO, Deputy Assistant Secretary for Enforcement and Programs, Director of the Office of Programs, and the FHEO Region Directors.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: By previous delegation, the Secretary delegated to the Assistant Secretary for Fair Housing and Equal Opportunity certain authority regarding the Department's civil rights related program requirements (60 FR 14294, March 16, 1995). By previous redelegation (68 FR 45844, August 4, 2003), the Assistant Secretary for Fair Housing and Equal Opportunity (FHEO) redelegated the Assistant Secretary's authority regarding civil rights related program requirements of HUD programs to the General Deputy Assistant Secretary, who in turn, redelegated certain authority to the Deputy Assistant Secretary for Enforcement and Programs, Director of the Office of Programs, and the FHEO Hub Directors. Since then, the FHEO Hub Directors' titles were changed to FHEO Region Directors. The Assistant Secretary for FHEO, through this notice, retains and redelegates the authority regarding civil rights related program requirements of HUD programs to the General Deputy Assistant Secretary for FHEO, Deputy Assistant Secretary for Enforcement and Programs, Director of the Office of Enforcement and the FHEO Region Directors.

Accordingly, the Assistant Secretary for FHEO delegates authority as follows:

Section A. Authority Redelegated

With certain exceptions noted in Section B, the Assistant Secretary for FHEO retains and redelegates to the General Deputy Assistant Secretary for FHEO all authority delegated to the Assistant Secretary for FHEO regarding civil rights related program requirements of HUD programs. This includes the authority to further redelegate. The General Deputy Assistant Secretary retains and redelegates this authority to the Deputy Assistant Secretary for Enforcement and Programs, Director of the Office of Programs, and the FHEO Region Directors.

Section B. Exceptions to Redelegation

The authority delegated by the Assistant Secretary does not include the authority to issue or to waive regulations. The Authority redelegated from the General Deputy Assistant Secretary does not include the authority to further redelegate.

Section C. Authority Revoked

All prior redelegations of authority made by the Assistant Secretary for FHEO regarding civil rights related program requirements of HUD programs made within the Office of the Assistant Secretary for FHEO are revoked, including, but not limited to, the redelegations at 68 FR 45844 published on August 4, 2003.

Authority: Section 7(d) of the Department of Housing and Urban Development Act, 42 U.S.C. 3535(d).

Dated: May 31, 2007.
Kim Kendrick,
Assistant Secretary for Fair Housing and Equal Opportunity.
Cheryl L. Ziegler,
General Deputy Assistant Secretary for Fair Housing and Equal Opportunity.

Editorial Note: This document was received at the Office of the Federal Register on December 12, 2007.

[FR Doc. E7-24331 Filed 12-14-07; 8:45 am]

BILLING CODE 4210-67-P